DEPARTMENT OF HOUSING AND URBAN DEVELOPMENT

[Docket No. FR-4900-FA-26]

Announcement of Funding Awards for Fiscal Year 2004 Community Outreach Partnership Centers

AGENCY: Office of the Assistant Secretary for Policy Development and Research, HUD.

ACTION: Announcement of funding awards.

SUMMARY: This document identifies the institutions selected for funding under the Fiscal Year 2004 Community Outreach Partnerships Centers (COPC) Program. The COPC program provides funds to two- and four-year colleges and universities to establish and operate Community Outreach Partnership Centers that will: (1) Conduct competent and qualified research and investigation on theoretical or practical problems in large and small cities; and (2) facilitate partnerships and outreach activities among institutions of higher education, local communities, and local governments to address urban problems.

FOR FURTHER INFORMATION CONTACT: Susan Brunson, Office of University Partnerships, Department of Housing and Urban Development, Room 8106, 451 Seventh Street, SW., Washington, DC 20410-6000, telephone (202) 708-3061, ext. 3852. To provide service for persons who are hearing- or speech-impaired, this number may be reached through TTY by dialing the Federal Information Relay Service on 800-877-8339 or 202-708-1455. (Telephone number, other than “800” TTY numbers are not toll free).

SUPPLEMENTARY INFORMATION: The Community Outreach Partnership Centers Program was enacted in the Housing and Community Development Act of 1992 (Pub. L. 102-550, approved October 28, 1992) and is administered by the Associate Deputy Assistant Secretary for University Partnerships. In addition to the COPC program, the Office of University Partnerships administers HUD's ongoing grant programs to institutions of higher education as well as creates initiatives through which colleges and universities can bring their traditional missions of teaching, research, service, and outreach to bear on the pressing local problems in their communities.

The Community Outreach Partnership Centers Program provides funds for: Research activities that have practical application for solving specific problems in designated communities and neighborhoods, and outreach, technical assistance and information exchange activities that are designed to address specific problems associated with housing, economic development, neighborhood revitalization, infrastructure, health care, job training, education, crime prevention, planning, and neighborhood capacity building.

The Catalog Federal Domestic Assistance number for this program is 14.511.

On May 14, 2004 (69 FR 27097), HUD published a Notice of Funding Availability (NOFA) announcing the availability of $6.9 million. The Department reviewed, evaluated, and scored the applications received based on the criteria in the NOFA. As a result, HUD has funded 14 applications for New Grants and 7 applications for New Directions Grants. New Grants, which cannot exceed $400,000, are for institutions of higher education just beginning a COPC project. New Directions Grants, which cannot exceed $200,000, are for institutions of higher education that received an earlier COPC grant and are undertaking new activities or expanding into new neighborhoods. These grants, with their grant amounts, are identified below.

In accordance with Section 102(a)(4)(C) of the Department of Housing and Urban Development Reform Act of 1989 (Pub. L. 101-235, approved December 15, 1989), the Department is publishing details concerning the recipients of funding awards, as follows:

List of Awardees for Grant Assistance Under the FY 2004 Community Outreach Partnerhship Centers (COPC) Communities Program Funding Competition, by Institution, Address and Grant Amount

Region I

1. University of Massachusetts, Mr. Stephen Demski, C/O Office of Grant & Contract Administration, Amherst, MA 01003. Grant: $398,573.

Region III

2. University of Pittsburgh, Mr. Tracy Soska, 350 Thackeray, Pittsburgh, PA 15260. Grant: $200,000.

3. University of Maryland-Baltimore, Ms. Dawn Wilkins, 515 West Lombard Street, 5th Floor, Baltimore, MD 21201. Grant: $199,710.

4. The Pennsylvania State University, Mr. Daniel Jay Lago, 110 Technology Center Building, University Park, PA 16802. Grant: $287,191.

5. Edinboro University of Pennsylvania, Ms. Linda Lacny, 219 Meadville Street, Edinboro, PA 16444. Grant: $311,392.

Region IV

6. University of Tennessee at Chattanooga, Ms. Diane Roper Miller, 615 McCallie Avenue, Department 4905, Chattanooga, TN 37403. Grant: $149,811.

7. Florida Community College at Jacksonville, Dr. Kathryn Birmingham, 501 West State Street, Jacksonville, FL 32202. Grant: $392,615.

8. University of Puerto Rico, Dr. Consuelo Figueras, Box 21489, San Juan, PR 00931-1489. Grant: $399,997.

9. Rhodes College, Mr. Charles N. Landreth, Jr., 2000 North Parkway, Memphis, TN 38112. Grant: $399,978.

10. Emory University, Dr. Michael James Rich, Office of Sponsored Programs, 1784 North Decatur Road, Suite 510, Atlanta, GA 30322. Grant: $400,000.

Region V

11. The Board of Trustee of the University of Illinois, Mr. Atanacio Gonzalez, 809 South Marshfield Avenue, MB 502, (M/C 551), Chicago, IL 60612. Grant: $200,000.

12. Medical College of Wisconsin, Dr. Barbara Beck, 8701 Watertown Plank Road, Milwaukee, WI 53226. Grant: $199,970.

13. The University of Akron, Mr. Kenneth Charles Stapleton, 302 East Buchtel Avenue, Akron, OH 44325. Grant: $400,000.

14. Regents of the University of Minnesota, Mr. Tom McRoberts, University of Minnesota-Morris, Grants Development Office, 235 Community Service Building, Morris, MN 56267. Grant: $399,494.

15. Mott Community College, Ms. Judith Cawhorn, 1401 East Court Street, Flint, MI 48503. Grant: $398,936.

16. Xavier University, Mr. Byron White, 3800 Victory Parkway, ML 5621, Cincinnati, OH 45207. Grant: $392,754.

Region VI

17. Southern University at Shreveport, Ms. Janice Brown Sneed, 3050 Martin Luther King, Jr. Drive, Shreveport, LA 71107. Grant: $391,490.

Region VII

18. University of Kansas Center for Research, Ms. Rona Chamberlain, 2385 Irving Hill Road, Lawrence, KS 66045. Grant: $400,000.

Region VIII

19. University of Utah, Mr. William Ernest, 1471 Federal Way, Salt Lake City, UT 84102. Grant: $399,702.

Region IX

20. Los Angeles Trade Technical College, Dr. Denise G. Fairchild, 400 West Washington Blvd., Los Angeles, CA 90015. Grant: $200,000.

21. The Regents of the University of California, Ms. Patricia Gates, 336 Sproul Hall, Berkeley, CA 94720. Grant: $200,000.

Dated: December 3, 2004.
Dennis C. Shea,
Assistant Secretary for Policy Development & Research.

[FR Doc. E4-3725 Filed 12-17-04; 8:45 am]

BILLING CODE 4210-62-P